DEPARTMENT OF LABOR

2 CFR Part 2998

29 CFR Parts 95 and 98

RIN 1291-AA38

Department of Labor Implementation of OMB Guidance on Nonprocurement Debarment and Suspension

AGENCY: Office of the Assistant Secretary for Administration and Management, Department of Labor (OASAM), Department of Labor

ACTION: Final rule; confirmation of effective date.

SUMMARY: On April 29, 2016, the Department of Labor, Office of the Assistant Secretary for Administration and Management (OASAM) published in the Federal Register a direct final rule to implement OMB Guidance on Nonprocurement Debarment and Suspension. The comment period for the direct final rule ended on May 31, 2016, with no comments received. For this reason, OASAM is confirming that the direct final rule became effective on May 31, 2016.

DATES: The effective date for the direct final rule that published on April 29, 2016 (81 FR 25585) was May 31, 2016.

ADDRESSES: Electronic copies of this Federal Register notice are available at http://www.regulation.gov.

FOR FURTHER INFORMATION CONTACT: Duyen Tran Ritchie, Office of the Chief Procurement Officer, (202) 693-7277 [Note: This is not a toll-free telephone number]; or by email at Ritchie.duyen.t@dol.gov.

SUPPLEMENTARY INFORMATION: Confirmation of the effective date: On April 29, 2016, OASAM published a direct final rule in the Federal Register to implement OMB Guidance on Nonprocurement Debarment and Suspension.

OASAM received no comments on the direct final rule. Accordingly, OASAM is confirming the effective date of the direct final rule as of May 31, 2016.

List of Subjects

2 CFR Part 2998

Administrative practice and procedure, Government procurement, Grant programs, Grants administration, Reporting and recordkeeping requirements.

29 CFR Part 95

Foreign governments, Grants and agreements with institutions of higher education, hospitals, and other non-profit organizations, and with commercial organizations, Organizations under the jurisdiction of foreign governments, and International organizations.

29 CFR Part 98

Governmentwide debarment and suspension (nonprocurement).

Authority and Signature

T. Michael Kerr, Assistant Secretary of Labor for Administration and Management, U.S. Department of Labor, 200 Constitution Avenue NW., Washington, DC 20210, authorized the preparation of this final rule.

Dated: September 16, 2016.
T. Michael Kerr,
Assistant Secretary for Administration and Management.

[FR Doc. 2016-23430 Filed 9-29-16; 8:45 am]

BILLING CODE 4510-7B-P